DEPARTMENT OF LABOR

Agency Information Collection Activities; Submission for OMB Review; Comment Request; Office of Federal Contract Compliance Programs Construction Recordkeeping and Reporting Requirements

ACTION: Notice of availability; request for comments.

SUMMARY: The Department of Labor (DOL) is submitting this Office of Federal Contract Compliance Programs (OFCCP)-sponsored information collection request (ICR) to the Office of Management and Budget (OMB) for review and approval in accordance with the Paperwork Reduction Act of 1995 (PRA). Public comments on the ICR are invited.

DATES: The OMB will consider all written comments that the agency receives on or before July 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael Howell by telephone at 202-693-6782, or by email at DOL_PRA_PUBLIC@dol.gov.

SUPPLEMENTARY INFORMATION: The U.S. Department of Labor's (DOL) Office of Federal Contract Compliance Programs (OFCCP) is seeking Office of Management and Budget approval for a revision to the information collection implementing OFCCP's construction program. This information collection request (ICR) outlines the legal authority, procedures, burden, and costs associated with the recordkeeping and reporting requirements for Federal construction contractors and subcontractors as well as federally assisted construction contractors and subcontractors. This ICR includes the information collection instrument that notifies construction contractors that they have been selected to undergo a construction compliance evaluation: the construction compliance review scheduling letter and itemized listing. This ICR also includes the Construction Contract Award Notification Requirement Form (CC-314). The CC-314 is a form that construction contractors submit to OFCCP notifying the agency of new contract awards that exceed $10,000. For additional substantive information about this ICR, see the related notice published in the Federal Register on February 26, 2024 (89 FR 14109).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OFCCP.

Title of Collection: Office of Federal Contract Compliance Programs Construction Recordkeeping and Reporting Requirements.

OMB Control Number: 1250-0001.

Affected Public: Businesses or other for-profits.

Total Estimated Number of Respondents: 9,982.

Total Estimated Number of Responses: 29,162.

Total Estimated Annual Time Burden: 136,211 hours.

Total Estimated Annual Other Costs Burden: $3,926.

(Authority: 44 U.S.C. 3507(a)(1)(D))

Michael Howell,
Senior Paperwork Reduction Act Analyst.

[FR Doc. 2024-13273 Filed 6-14-24; 8:45 am]

BILLING CODE 4510-CM-P